DEPARTMENT OF JUSTICE

Antitrust Division

Notice Pursuant to the National Cooperative Research and Production Act of 1993—Petroleum Environmental Research Forum Project No. 01-08

Notice is hereby given that, on January 13, 2003, pursuant to Section 6(a) of the National Cooperative Research and Production Act of 1993, 15 U.S.C. 4301 et seq. (“the Act”), ExxonMobil Research & Engineering Company, on behalf of PERF Project No. 01-08, titled “Downstream Waste Management Cooperative,” has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to Section 6(b) of the Act, the identities of the parties are ExxonMobil Research & Engineering Company, Fairfax, VA; BP Products North America Inc., Naperville, IL; Petrozyme Technologies, Inc., Guelph, Ontario, CANADA; Shell Global Solutions U.S. Inc., Houston, TX; and Aramco Services Company, Houston, TX. The nature and objectives of the research program performed in accordance with PERF Project No. 01-08 are to provide exchange technology and experience in the minimization treatment and disposal of downstream waste. The program will be carried out by compiling, presenting, and exchanging technology, practices, or research related to achieving the objectives.

Membership in this research group remains open, and the participants intend to file additional written notification disclosing all changes in membership or planned activities.

Information about participating in PERF Project No. 01-08 may be obtained by contacting Mr. Steven Smith, ExxonMobil Research & Engineering Company, Fairfax, VA.

Constance K. Robinson,
Director of Operations, Antitrust Division.

[FR Doc. 03-3294 Filed 2-10-03; 8:45 am]

BILLING CODE 4410-11-M